DEPARTMENT OF THE INTERIOR

National Park Service

[NPS-WASO-NAGPRA-12739; PPWOCRADN0-PCU00RP14.R50000]

Notice of Inventory Completion for Native American Human Remains and Funerary Objects in the Possession of Big Cypress National Preserve, National Park Service, Ochopee, FL; Correction

Correction

In notice document 2013-10220 appearing on page 25468 in the issue of May 1, 2013, make the following correction:

On page 25468, in the third column, beginning in the sixth line, “remains and funerary objects were collected from six sites by National Park Service archeologists in 1977.” should read “The human remains and funerary objects were collected from six sites by National Park Service archeologists in 1977.”.

[FR Doc. C1-2013-10220 Filed 5-6-13; 8:45 am]

BILLING CODE 1505-01-D